DEPARTMENT OF THE INTERIOR

National Indian Gaming Commission

25 CFR Chapter III

Regulatory Review Schedule

AGENCY: National Indian Gaming Commission.

ACTION: Notice of comment periods on preliminary drafts.

SUMMARY: On November 18, 2010, the National Indian Gaming Commission (NIGC) issued a Notice of Inquiry and Notice of Consultation advising the public that the NIGC was conducting a comprehensive review of its regulations and requesting public comment on the process for conducting the regulatory review. On April 4, 2011, after holding eight consultation meetings and reviewing all comments, NIGC published a Notice of Regulatory Review Schedule setting out detailed consultation schedules and review processes. NIGC divided the regulations to be reviewed into five groups, and each group will be reviewed in three phases, the Drafting Phase, the Notice of Proposed Rulemaking phase, and the Notice of Final Rule Phase.

The purpose of this document is to establish a May 31, 2011, deadline for submittal of written comments on the preliminary draft of the fee regulation and to inform the public that the Commission will provide at least 30 days for written comments on any preliminary drafts circulated by the Commission during the Drafting Phase of the Regulatory Review.

DATES: Submit comments on the preliminary draft of the fee regulation by May 31, 2011.

ADDRESSES: Comments sent by electronic mail are strongly encouraged. Electronic submissions should be directed to reg.review@nigc.gov. See File Formats and Required Information for Submitting Comments under SUPPLEMENTARY INFORMATION, below, for instructions. Submissions sent by regular mail should be addressed to Lael Echo-Hawk, Counselor to the Chair, National Indian Gaming Commission, 1441 L Street NW., Suite 9100, Washington, DC 20005.

FOR FURTHER INFORMATION CONTACT: Lael Echo-Hawk, National Indian Gaming Commission, 1441 L Street NW., Suite 9100 Washington, DC 20005. Telephone: 202-632-7009; e-mail: reg.review@nigc.gov.

SUPPLEMENTARY INFORMATION: On November 18, 2010, NIGC issued a Notice of Inquiry and Notice of Consultation advising the public that the NIGC was conducting a comprehensive review of all regulations promulgated to implement 25 U.S.C. 2701-2721 of the Indian Gaming Regulatory Act (IGRA) and requesting public comment on the process for conducting the regulatory review. On April 4, 2011, NIGC published a Notice of Regulatory Review Schedule setting out detailed consultation schedules and review processes.

The Commission's regulatory review process establishes three phases of review: A Drafting Phase, a Notice of Proposed Rulemaking Phase, and a Notice of Final Rule Phase. The Drafting Phase is intended to provide for tribal participation early in the drafting or amendment of any rule with tribal implications. During the drafting phase, the Commission may circulate a preliminary draft, preliminary proposed amendments to a current regulation, or preliminary proposals provided by Tribes or tribal organizations. The Drafting Phase includes an opportunity for the public to provide written comments on preliminary drafts. On April 22, 2011, the Commission released a preliminary draft of amendments to 25 CFR Part 514. This document establishes a May 31, 2011 deadline to provide written comments on the preliminary draft of Part 514.

This document also advises the public that any future preliminary drafts of regulations or amendments released by the Commission will include a deadline for the submittal of written comments to the Commission. The Commission intends to provide the public at least 30 days for the submittal of written comments on preliminary drafts.

File Formats and Required Information for Submitting Comments

If submitting by electronic mail: send to reg.review@nigc.gov a message containing the name of the person making the submission, his or her title and organization (if the submission of an organization), mailing address, telephone number, fax number (if any), and e-mail address. The document itself must be sent as an attachment and must be in a single file and in recent, if not current, versions of: (1) Adobe Portable Document File (PDF) format (preferred); or (2) Microsoft Word file formats.

If submitting by print only: Anyone who is unable to submit a comment in electronic form should submit an original and two paper copies by hand or by mail to the address listed above. Use of surface mail is strongly discouraged owing to the uncertainty of timely delivery.

Authority: 25 U.S.C. 2706(b)(10); E.O. 13175.

Tracie L. Stevens,
Chairwoman.
Steffani A. Cochran,
Vice-Chairwoman.
Daniel J. Little,
Associate Commissioner.

[FR Doc. 2011-11284 Filed 5-9-11; 8:45 am]

BILLING CODE 7565-01-P